DEPARTMENT OF DEFENSE

Office of the Secretary

[Transmittal No. 17-08]

36(b)(1) Arms Sales Notification

AGENCY: Defense Security Cooperation Agency, Department of Defense.

ACTION: Notice.

SUMMARY: The Department of Defense is publishing the unclassified text of a section 36(b)(1) arms sales notification.

FOR FURTHER INFORMATION CONTACT: Kathy Valadez, (703) 697-9217 or Pamela Young, (703) 697-9107; DSCA/DSA-RAN.

SUPPLEMENTARY INFORMATION: This 36(b)(1) arms sales notification is published to fulfill the requirements of section 155 of Public Law 104-164 dated July 21, 1996. The following is a copy of a letter to the Speaker of the House of Representatives, Transmittal 17-08 with attached Policy Justification and Sensitivity of Technology.

Dated: July 18, 2017.
Aaron Siegel,
Alternate OSD Federal Register Liaison Officer, Department of Defense.

Transmittal No. 17-08

Notice of Proposed Issuance of Letter of Offer Pursuant to Section 36(b)(1) of the Arms Export Control Act, as amended

(i) Prospective Purchaser: Government of India.

(ii) Total Estimated Value:

Major Defense Equipment* | $ 0 million
Other | $75 million
TOTAL | $75 million

(iii) Description and Quantity or Quantities of Articles or Services under Consideration for Purchase:

Major Defense Equipment (MDE): None

Non-MDE include: Thirty-eight thousand thirty-four (38,034) M50 General Purpose Masks. Joint Service Lightweight Integrated Suit Technology (JSLIST) consisting of:

Thirty-eight thousand thirty-four (38,034) Suits

Thirty-eight thousand thirty-four (38,034) Pairs of Trousers

Thirty-eight thousand thirty-four (38,034) Pairs of Gloves

Thirty-eight thousand thirty-four (38,034) Pairs of Boots

Thirty-eight thousand thirty-four (38,034) NBC Bags

Eight hundred fifty-four (854) Aprons

Eight hundred fifty-four (854) Alternative Aprons

Nine thousand five hundred nine (9,509) Quick Doff Hood

One hundred fourteen thousand one hundred two (114,102) M61 Filters

Also included is training, technical data, U.S. Government technical assistance, staging/consolidation, and transportation line.

(iv) Military Department: Army

(v) Prior Related Cases, if any: None

(vi) Sales Commission, Fee, etc., Paid, Offered, or Agreed to be Paid: None

(vii) Sensitivity of Technology Contained in the Defense Article or Defense Services Proposed to be Sold: See Annex Attached.

(viii) Date Report Delivered to Congress: May 10, 2017

* As defined in Section 47(6) of the Arms Export Control Act.

Policy Justification

Government of India—CBRN Support Equipment

The Government of India (GoI) has requested a possible sale of 38,034 M50 general purpose masks; Joint Service Lightweight Integrated Suit Technology (JSLIST), which consists of 38,034 each: suits, pairs of trousers, pairs of gloves, pairs of boots and NBC bags; 854 aprons; 854 alternative aprons; 9,509 Quick Doff Hoods; and 114,102 M61 filters. Also included in the potential sale is training; technical data; U.S. Government technical assistance; staging/consolidation; transportation; and other related elements of logistics support. The estimated cost is $75 million.

This proposed sale will contribute to the foreign policy and national security of the United States, by helping to improve the security of a friendly country which has been, and continues to be, an important force for political stability and economic progress in South Asia.

The GoI intends to use these defense articles and services to modernize its armed forces. This will contribute to the Indian military's goal to update its capability while enhancing the relationship between India and the United States. The GoI will have no difficulty absorbing these defense articles into its armed forces.

The proposed sale of this equipment and support will not alter the basic military balance in the region.

The principal contractor involved in this program is Avon Protection Systems, Inc., Cadillac, MI. At this time, there are no known offset agreements proposed in connection with this potential sale.

There will be no adverse impact on U.S. defense readiness as a result of this proposed sale.

Transmittal No. 17-08

Notice of Proposed Issuance of Letter of Offer Pursuant to Section 36(b)(1) of the Arms Export Control Act

Annex

Item No. vii

(vii) Sensitivity of Technology:

1. The Joint Service Lightweight Integrated Suit Technology (JSLIST) is a chemical and biological protective garment meant to be worn over the operational uniform of the user. It has an outer shell made up of a 50% nylon and 50% cotton poplin blend material with a water repellant finish. The liner layer consists of a nonwoven front laminated to activated carbon spheres and bonded to a tricot knit back that absorbs chemical agents. When the JSLIST coat and trousers are combined with boots, gloves, and a chemical protective mask, JSLIST provides protection against chemical and biological agents, radioactive fallout particles, and battlefield contaminants. The highest level of information that could be disclosed by the transfer of the JSLIST. Suit is UNCLASSIFIED. JSLIST is considered a U.S. military uniform item, and as such, any unit being sold to Foreign Military Sales customers will not utilize an actively-used U.S. military camouflage pattern in accordance with the Security Assistance Management Manual (SAMM), Chapter 4, paragraph 4.5.6. and 10 U.S.C. 771.

2. The M50 Joint Service General Purpose Mask is the U.S. Armed Forces' field protective mask. The system used two M61 filters integrated into the air inlet system to protect against nuclear, biological and chemical threats including select toxic industrial chemicals. The highest level of information that could be disclosed by the transfer of the M50 is UNCLASSIFIED.

3. All defense articles and services listed in this transmittal are authorized for release and export to the Government of India.

[FR Doc. 2017-15393 Filed 7-21-17; 8:45 am]

BILLING CODE 5001-06-P